DEPARTMENT OF COMMERCE

Foreign-Trade Zones Board

[Dockets 39-2002, 40-2002, 41-2002, 42-2002, 43-2002, 44-2002, 45-2002, 46-2002, 47-2002, 48-2002]

Withdrawal of Applications for Subzone Status for Flint Ink North America Corporation Plants

Notice is hereby given of the withdrawal of the applications requesting special-purpose subzone status for the ten Flint Ink North America Corporation plants. The applications were filed on October 7, 2002 (66 FR 64088-64096, 10/17/02).

The withdrawal was requested because of changed circumstances, and the cases have been closed without prejudice.

Dated: June 25, 2003.
Dennis Puccinelli,
Executive Secretary.

[FR Doc. 03-16672 Filed 7-1-03; 8:45 am]

BILLING CODE 3510-DS-P